DEPARTMENT OF THE INTERIOR

Bureau of Land Management

[LLWO260000.L10600000.PC0000.18X.LXSIADVSBD00]

Wild Horse and Burro Advisory Board Meeting

AGENCY: Bureau of Land Management, Interior.

ACTION: Notice of Advisory Board meeting.

SUMMARY: In accordance with the Federal Land Policy and Management Act of 1976 and the Federal Advisory Committee Act of 1972, the U.S. Department of the Interior, Bureau of Land Management's (BLM) Wild Horse and Burro Advisory Board (Advisory Board) will meet as indicated below.

DATES: The Advisory Board will hold a public meeting on Tuesday, March 27, 2018, from 8 a.m. to 5 p.m. and Wednesday, March 28, 2018, from 8 a.m. to 12:00 p.m. MDT.

ADDRESSES: The meeting will be held at the Radisson Hotel Salt Lake City Downtown, 215 West South Temple, Salt Lake City, UT 84101. The final agenda for the March 27-28, 2018, public meeting will be posted on the BLM web page at: https://www.blm.gov/programs/wild-horse-and-burro/get-involved/advisory-board. Written comments pertaining to the meeting and written statements that will be presented to the Advisory Board may be filed in advance of the meeting and sent to the U.S. Department of the Interior, BLM, Attention: Advisory Board (WO-260), 20 M Street SE (Room 2134 LM), Washington, DC 20003 or emailed to: whbadvisoryboard@blm.gov no later than March 20, 2018. Please include “Advisory Board Comment” in the subject line of the email.

FOR FURTHER INFORMATION CONTACT: Dorothea Boothe, Acting Wild Horse and Burro Outreach Specialist at 202-912-7654 or by email at dboothe@blm.gov. Persons who use a telecommunications device for the deaf (TDD) may call the Federal Relay Service (FRS) at 1-800-877-8339 to contact the above individual during normal business hours. FRS is available 24 hours a day, 7 days a week, to leave a message or question with the above individual. You will receive a reply during normal business hours.

SUPPLEMENTARY INFORMATION: The Advisory Board advises the Secretary of the Interior, the BLM Director, the Secretary of Agriculture, and the Chief of the U.S. Forest Service on matters pertaining to the management and protection of wild, free-roaming horses and burros on the Nation's public lands. The tentative agenda for the meeting is:

I. Advisory Board Public Meeting Agenda

Tuesday, March 27, 2018 (8 a.m.-5 p.m.)

Welcome, Introductions, and Agenda Review

Advisory Board October 2017 Meeting Minutes Review/Approval

BLM Responses to Board Recommendations—September 2016 and October 2017 Meetings

BLM Utah WHB Program Update

BLM National WHB Program Overview and Status

BLM National WHB Research Update

BLM National WHB Program Budget Update

U.S. Forest Service WHB Program Update

Public Comment Period (3 p.m.-5 p.m.)

Adjourn

Wednesday, March 28, 2018 (8 a.m.-Noon)

Welcome, Introductions, and Agenda Review

Building Collaborative Partnerships

Advisory Board Discussion and Recommendations to the BLM

Adjourn

The meeting will be live-streamed at www.blm.gov/live. The meeting site is accessible to individuals with disabilities. An individual with a disability needing an auxiliary aid or service to participate in the meeting, such as an interpreting service, assistive listening device, or materials in an alternate format, must notify Ms. Boothe one week before the scheduled meeting date. Although the BLM will attempt to meet a request received after that date, the requested auxiliary aid or service may not be available because of insufficient time to arrange for it.

II. Public Comment Procedures

On Tuesday, March 27 at 3 p.m., members of the public will have the opportunity to make comments to the Advisory Board on the WHB Program. Persons wishing to make comments during the meeting should register in person with the BLM prior to 2:30 p.m. on March 27, at the meeting location. Depending on the number of commenters, the Advisory Board may limit the length of comments. At previous meetings, comments have been limited to 3 minutes in length; however, this time may vary. Public commenters are requested to submit a written copy of their statement to the addresses listed in the ADDRESSES section above, or bring a written copy to the meeting to be included and posted as part of the Advisory Board's record of the meeting. There will be a webcam present during the entire meeting, and individual comments may be recorded.

Participation in the Advisory Board meeting is not required to submit written comments. The BLM invites written comments from all interested parties. We request that written comments be specific and explain the reason for any recommendation. The Advisory Board considers comments that are either supported by quantitative information or studies, or those that include citations to and analysis of applicable laws and regulations to be the most useful in developing its advice and recommendations on the management and protection of wild horses and burros.

Before including your address, phone number, email address, or other personal identifying information in your comment, you should be aware that your entire comment—including your personal identifying information—may be made publicly available at any time. While you can ask in your comment that the BLM withhold your personal identifying information from public review, the BLM cannot guarantee that it will be able to do so.

Authority: 43 CFR 1784.4-2.

Steve Tryon,
Deputy Assistant Director, Resources and Planning.

[FR Doc. 2018-05046 Filed 3-12-18; 8:45 am]

BILLING CODE 4310-84-P